DEPARTMENT OF HEALTH AND HUMAN SERVICES

Administration for Community Living

[OMB #0985-0067]

Agency Information Collection Activities; Proposed Collection; Comment Request; Study on the Impact of COVID-19 on Adult Protective Service (APS) Programs

AGENCY: Administration for Community Living, HHS.

ACTION: Notice

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice.

This notice solicits comments on the Proposed Extension with Revisions and solicits comments on the information collection requirements related to Study on the impact of COVID-19 on Adult Protective Service (APS) Programs.

DATES: Comments on the collection of information must be submitted electronically by 11:59 p.m. (EST) or postmarked by February 1, 2021.

ADDRESSES: Submit electronic comments on the collection of information to Stephanie Whittier Eliason Stephanie.WhittierEliason@acl.hhs.gov. Submit written comments on the collection of information to Administration for Community Living, Washington, DC 20201, Attention: Stephanie Whittier Eliason.

FOR FURTHER INFORMATION CONTACT: Stephanie Whittier Eliason, Administration for Community Living, Washington, DC 20201, Phone: (202) 795-7467, E: Mail Stephanie.WhittierEliason@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates; (3) ways to enhance the quality, utility, and clarity of the information to be collected; and

(4) ways to minimize the burden of the collection of information on respondents, including through the use of automated collection techniques when appropriate, and other forms of information technology.

This data collection is an extension of ACL's investigation on the impact of COVID-19 on APS programs across the country. The COVID-19 pandemic is causing changes in APS policy and practice in several areas, including, but not limited to, a reduction of in-person interactions with clients, perpetrators, and collaterals. As ACL collects information on the impact of APS during the COVID-19 pandemic, the opioid overdose death rates are rising at the same time.¹ The opioid epidemic affects older adults through opioid misuse and is associated with increases in elder abuse including physical abuse, threatening behavior; emotional abuse; and financial exploitation.2 3

¹ Haley DF, Saitz R. The Opioid Epidemic During the COVID-19 Pandemic. JAMA. Published online September 18, 2020. doi:10.1001/jama.2020.18543.

² Blog Post (March 4, 2019): https://eldermistreatment.usc.edu/opioids-and-elder-abuse-a-disquieting-connection/.

³ Washington Post Article (June 17, 2019): https://www.washingtonpost.com/business/2019/06/17/how-opioid-crisis-is-leading-elder-financial-abuse/?utm_term=.594b4dd84d9d.

The revisions to this study includes structured individual and group interviews with state administrators and local field staff to discuss opioid cases pre- and during the COVID-19 pandemic. The study will reveal the characteristics of opioid cases in older adults and how APS staff are responding to these cases. In addition, it will compare how these cases are handled pre- and during the COVID-19 pandemic by APS. The findings of the study will assist ACL in addressing the challenges of opioid cases under normal and emergency conditions. In particular, it will help to prioritize any policies and procedures during and after the COVID-19 pandemic to improve APS responses to these cases.

The proposed data collection tools may be found on the ACL website for review at https://www.acl.gov/about-acl/public-input.

Estimated Program Burden

ACL estimates the burden associated with this collection of information as follows:

Respondent/data collection activity | Number of respondents | Responses per respondent | Hours per response | Annual burden hours
State Administrator Interviews | 12 | 1 | .75 | 9
Local Field Staff Group Interviews | 60 | 1 | .75 | 45
Total: |  |  |  | 54

Dated: November 25, 2020.
Lance Robertson,
Administrator and Assistant Secretary for Aging.

[FR Doc. 2020-26513 Filed 11-30-20; 8:45 am]

BILLING CODE 4154-01-P